ENVIRONMENTAL PROTECTION AGENCY

[FRL-7224-4]

Notice of Web-Based Availability for Public Comments to the EPA White Paper Regarding Options for Addressing Boutique Fuels in the Longer Term

AGENCY: Environmental Protection Agency.

ACTION: Notice of Web-based availability for public review of comments received in response to an EPA White Paper “Study of Unique Gasoline Fuel Blends (Boutique Fuels), Effects on Fuel Supply and Distribution and Potential Improvements' (EPA420-P-01-004); hereafter referred to as “White Paper”. The “white paper” explores a number of options for addressing boutique fuels in the longer term.

SUMMARY: The President's National Energy Policy issued on May 17, 2001, directed EPA to * * * study opportunities to maintain or improve the environmental benefits of state and local “boutique” clean fuel programs while exploring ways to increase the flexibility of the fuels distribution infrastructure, improve fungibility, and provide added gasoline market liquidity * * *.

In response to this directive, EPA prepared a report that discusses the actions that EPA will take in the near term to ensure a smoother transition from winter to summer grade reformulated gasoline (RFG). That report, entitled: “Study of Boutique Fuels and Issues Relating to Transition from Winter to Summer Gasoline” was sent to the President and made publicly available. Based on the finding of the Transition Report, EPA recently completed several actions including elimination of cumbersome blendstock accounting provisions, modifying regulations dealing with previously certified gasoline and issuing enforcement guidance concerning initial tank turnover testing tolerance.

In addition, EPA prepared a White Paper, entitled: “Study of Unique Gasoline Fuel Blends (“Boutique Fuels”), Effects on Fuel Supply and Distribution and Potential Improvements,” that addressed boutique fuels in the longer term and explored a number of options that could reduce the total number of fuels and lay the groundwork for further study. EPA continues to review the public comments received regarding the White Paper and will consider appropriate further actions. Today EPA is announcing the web-based availability of public comments received in response to the White Paper, “Study of Unique Gasoline Fuel Blends (“Boutique Fuels”), Effects on Fuel Supply and Distribution and Potential Improvements.”

EPA is publishing this notice of availability of public comments on the White Paper. The White Paper, as well as the Study of Boutique Fuels and Issues Relating to Transition from Winter to Summer Gasoline, are both available in the public docket A-2001-20. The docket is located at U.S. Environmental Protection Agency, 401 M St., SW., Room 1500, Washington, DC 20460. The telephone number of the docket office is (202) 260-7548.

The public comments will be made available through EPA's Regulatory Public Access System (RPAS) at http://www.epa.gov/rpas. The docket ID is OAR-2002-0003 and the public comments are numbered OAR-2002-0003-0050 through OAR-2002-0003-0081.

FOR FURTHER INFORMATION CONTACT: Kurt Gustafson, Office of Air Quality and Transportation, (202) 564-2224, or by e-mail at gustafson.kurt@epa.gov.

Dated: May 30, 2002.
Margo T. Oge,
Director, Office of Transportation and Air Quality, Environmental Protection Agency.

[FR Doc. 02-14042 Filed 6-4-02; 8:45 am]

BILLING CODE 6560-50-P